DEPARTMENT OF VETERANS AFFAIRS

[OMB Control No. 2900-NEW]

Agency Information Collection Activity: Suicide Prevention 2.0 Program—Community Opinion Survey

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 18, 2022.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-NEW” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-NEW” in any correspondence.

SUPPLEMENTARY INFORMATION:

Under the PRA of 1995, Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Suicide Prevention 2.0 Program—Community Opinion Survey.

OMB Control Number: 2900-NEW.

Type of Review: New collection.

Abstract: Legal authority for this data collection is found under 38 U.S.C., Part I, Chapter 5, Section 527, which authorizes the collection of data that will allow measurement and evaluation of VA Programs, the goal of which is improved health care for veterans. The information will be used to accomplish three aims: (1) Collect baseline data on the knowledge and attitudes of adult US citizens living in specified communities about veterans, veteran suicide, and resources available to veterans to reduce suicide, prior to the implementation of suicide prevention programs; (2) collect follow-up data in the same communities to assess whether those knowledge and attitudes have changed over time; and (3) determine whether the programs and policies implemented by a community resulted in positive change in knowledge and attitudes.

The data will be utilized by the Office of Mental Health and Suicide Prevention in VA Central Office to measure the return on investment of significant resources that have been invested to support communities in their efforts to reduce veteran suicide. Specifically, the Community-Based Interventions (CBI) arm of VA's “Suicide Prevention 2.0” (SP2.0) program has launched two different initiatives whose goals are to increase the successful implementation of best practices to prevent veteran suicide in local communities. The data will allow VA to measure a baseline level of expected outcomes, follow-up levels, and explore the role of new programs in any changes, as well as inform program planning and evaluation.

In addition, the data collected will be used by State teams that are engaged in the Governor's Challenge (GC) initiative. GC is one of the initiatives supported by SP2.0 and is structured so that State teams are provided training and technical assistance by VA to expand their efforts to implement suicide prevention programs in their State. This data collection will assist the State teams to assess the effects of their new programming or policies.

Affected Public: Individuals or households.

Estimated Annual Burden: 2,500 hours.

Estimated Average Burden per Respondent: 15 minutes.

Frequency of Response: Once annually.

Estimated Number of Respondents: 10,000.

By direction of the Secretary.
Maribel Aponte,
VA PRA Clearance Officer, Office of Enterprise and Integration/Data Governance Analytics, Department of Veterans Affairs.

[FR Doc. 2021-24970 Filed 11-15-21; 8:45 am]

BILLING CODE 8320-01-P